DEPARTMENT OF ENERGY

Federal Energy Regulatory Commission

[Project No. 11659-028]

Gustavus Electric Company; Alaska Power Company; Notice of Application For Transfer of License and Soliciting Comments and Motions To Intervene

On January 17, 2014, Gustavus Electric Company (transferor) and Alaska Power Company (transferee) filed an application for transfer of license of the Falls Creek Hydroelectric Project located on Falls Creek (A.K.A. Kahtaheena River), Gustavus, Alaska.

The transferor and transferee seek Commission approval to transfer the license for the Falls Creek Hydroelectric Project from the transferor to the transferee.

Applicant Contacts: For Transferor: Mr. Richard Levitt, President, Gustavus Electric Company, P.O. Box 102, Gustavus, AK 99826, telephone 907-697-2299, email: richardlevitt@cs.com. For Transferee: Mr. Robert Grimm, Chief Executive Officer, Alaska Power Company, P.O. Box 3222, Port Townsend, WA 98368, telephone 360-344-3400, email: bobg@aptalaska.com.

FERC Contact: Patricia W. Gillis, (202) 502-8735.

Deadline for filing comments and motions to intervene: 30 days from the issuance date of this notice, by the Commission. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street NE., Washington, DC 20426. For more information on how to submit these types of filings please go to the Commission's Web site located at http://www.ferc.gov/filing-comments.asp. More information about this project can be viewed or printed on the eLibrary link of Commission's Web site at http://www.ferc.gov/docs-filing/elibrary.asp. Enter the docket number (P-11659-028) in the docket number field to access the document. For assistance, call toll-free 1-866-208-3372.

Dated: January 28, 2014.
Kimberly D. Bose,
Secretary.

[FR Doc. 2014-02376 Filed 2-4-14; 8:45 am]

BILLING CODE 6717-01-P